Title 3—

The President

Proclamation 7628 of November 21, 2002

Thanksgiving Day, 2002

By the President of the United States of America

A Proclamation

In celebration of Thanksgiving Day 1902, President Theodore Roosevelt wrote, “Rarely has any people enjoyed greater prosperity than we are now enjoying. For this we render heartfelt and solemn thanks to the Giver of Good; and we seek to praise Him—not by words only—but by deeds, by the way in which we do our duty to ourselves and to our fellow men.” President Roosevelt's words gracefully remind us that, as citizens of this great Nation, we have much for which to be thankful; and his timeless call inspires us to meet our responsibilities to help those in need and to promote greater understanding at home and abroad.

As the Pilgrims did almost four centuries ago, we gratefully give thanks this year for the beauty, abundance, and opportunity this great land offers. We also thank God for the blessings of freedom and prosperity; and, with gratitude and humility, we acknowledge the importance of faith in our lives.

Throughout the Thanksgiving holiday, let us renew our commitment to make our country and our world better. As we welcome new opportunities and face new challenges, we are thankful for the resolve and generosity of so many of our people who are touching countless hearts and souls through thoughtful acts of kindness. By answering the call to serve others, Americans are building a culture of service that strengthens our Nation. We also honor and salute the selfless sacrifice of the brave men and women of our Armed Forces who are defending our lives and liberty at home and abroad with skill, honor, and dedication.

This Thanksgiving, we recognize the ties of friendship and respect that bind us together. And we renew our pledge to uphold the timeless principles of freedom, equality, and opportunity that have made our country into a great Nation. By working together, we will continue to build mutual trust, peace, and hope for all across this land and around the world.

NOW, THEREFORE, I, GEORGE W. BUSH, President of the United States of America, by virtue of the authority vested in me by the Constitution and laws of the United States, do hereby proclaim Thursday, November 28, 2002, as a National Day of Thanksgiving. I encourage Americans to gather in their homes, places of worship, and community centers to share the spirit of understanding and unity, and of prayer, as we express our thanks for the many blessings we enjoy. I also encourage Americans to reach out in friendship to the larger family of humankind.

IN WITNESS WHEREOF, I have hereunto set my hand this twenty-first day of November, in the year of our Lord two thousand two, and of the Independence of the United States of America the two hundred and twenty-seventh.

B

[FR Doc. 02-30202

Filed 11-25-02; 8:47 am]

Billing code 3195-01-P